DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Environmental Compliance Questionnaire for National Oceanic and Atmospheric Administration Federal Financial Assistance Applicants.

Form Number(s): None.

OMB Approval Number: None.

Type of Request: Regular submission.

Burden Hours: 3,000.

Number of Respondents: 1,000.

Average Hours Per Response: 3 hours.

Needs and Uses: This information collection is needed to ensure that all projects supported by NOAA through grants or other financial assistance awards comply with the National Environmental Policy Act (NEPA 42 U.S.C. 4321-4347), the Council on Environmental Quality's (CEQ) Regulations for Implementing NEPA (40 CFR parts 1500-1508), and NOAA Administrative Order (NAO) 216-6. The National Environmental Policy Act and CEQ implementing regulations require that an environmental analysis be completed for all major federal actions significantly affecting the environment. In order to determine NEPA compliance requirements for a project being funded by NOAA, NOAA must assess information which can only be provided by the federal financial assistance applicant.

Affected Public: Not-for-profit institutions; individuals or households; business or other for-profit organizations; State, Local or Tribal government.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 16, 2006.
Gwellnar Banks,
Management Analyst, Office of the Chief Information Officer.

[FR Doc. E6-4115 Filed 3-21-06; 8:45 am]

BILLING CODE 3510-NW-P